NATIONAL SCIENCE FOUNDATION

Sunshine Act Meetings

AGENCY: National Science Board, National Science Foundation.

The National Science Board, pursuant to NSF regulations (45 CFR Part 614), the National Science Foundation Act, as amended (42 U.S.C. 1862n-5), and the Government in the Sunshine Act (5 U.S.C. 552b), hereby gives notice of the scheduling of meetings for the transaction of National Science Board business, as follows:

DATES AND TIME: November 19, 2014 from 8:30 a.m. to 5:00 p.m., and November 20 from 8:30 a.m. to 3:00 p.m. (EST).

PLACE: These meetings will be held at the National Science Foundation, 4201Wilson Blvd., Rooms 1235, Arlington, VA 22230. All visitors must contact the Board Office (call 703-292-7000 or send an email message to nationalsciencebrd@nsf.gov) at least 24 hours prior to the meeting and provide name and organizational affiliation. Visitors must report to the NSF visitor desk located in the lobby at the 9th and N. Stuart Streets entrance to receive a visitor's badge.

WEBCAST INFORMATION: Public meetings and public portions of meetings will be Webcast. To view the meetings, go to http://www.tvworldwide.com/events/nsf/140917/ and follow the instructions.

UPDATES: Please refer to the National Science Board Web site for additional information. Meeting information and schedule updates (time, place, subject matter or status of meeting) may be found at http://www.nsf.gov/nsb/notices/.

AGENCY CONTACT: Jennie L. Moehlmann, jmoehlma@nsf.gov, (703) 292-7000.

PUBLIC AFFAIRS CONTACT: Nadine Lymn, nlymn@nsf.gov, (703) 292-2490.

STATUS: Portions open; portions closed.

OPEN SESSIONS:

November 19, 2014

8:30-8:35 a.m. (Chairman's introduction)

8:35-9:30 a.m. (SCF)

9:30-10:30 a.m. (CEH)

1:00-2:15 p.m. (CPP)

2:15-3:30 p.m. (A&O)

November 20, 2014

8:45-9:00 a.m. (CSB)

9:00-10:30 a.m. (SEI)

10:45-11:45 a.m. (CPP)

1:15-3:00 p.m. (Plenary)

CLOSED SESSIONS:

November 19, 2014

10:45-11:30 a.m. (CPP)

3:30-3:45 p.m. (A&O)

3:45-5:00 p.m. (Plenary)

November 20, 2014

8:30-8:45 a.m. (CSB)

12:45-1:15 p.m. (Plenary)

MATTERS TO BE DISCUSSED:

Wednesday, November 19, 2014

CSB Subcommittee on Facilities (SCF)

Open Session: 8:35-9:30 a.m.

• Committee Chairman's remarks

• Approval of the September 2014 teleconference minutes

• Information Item: Update on the large facilities office

• Discussion on status of recommendations from FY 2013 Annual Portfolio Review (APR): large facilities synopses; other recommendations

• Discussion of Regional Class Research Vessels (RCRVs)

Committee on Education and Human Resources (CEH)

Open Session: 9:30-10:30 a.m.

• Committee Chairman's remarks

• Approval of open CEH minutes for August 2013 meeting

• Presentation: NSF Investments in STEM Education

• Discussion of NSF's education portfolio with the NSF Assistant Directors

Committee on Programs and Plans (CPP)

Closed Session: 10:45-11:30 a.m.

• Approval of closed CPP minutes for August 2014

• Committee Chairman's remarks

• NSB Action Item: The iPlant Collaborative: Cyberinfrastructure for the Life Sciences

Committee on Programs and Plans (CPP)

Open Session: 1:00-2:15 p.m.

• Committee Chairman's remarks

• Science briefing at the Poles: overview of polar science—Antarctic and Arctic; NSB Members site visit report

Audit and Oversight Committee (A&O)

Open Session: 2:15-3:30 p.m.

• Approval of August 2014 meeting minutes

• Committee Chairman's opening remarks

• Transmittal of OIG Semi-annual report

• Inspector General's update: update on data analytics; OIG FY 2015 audit plan

• Briefing on OIG and NSF management roles and responsibilities related to audit resolution

• Chief Financial Officer's update

• Committee Chairman's closing remarks

Audit and Oversight Committee

Closed Session: 3:30-3:45 p.m.

• Committee Chairman's opening remarks

• Approval of August 2014 closed committee minutes

• NSF relocation update

• Chairman's closing remarks

Plenary Board Meeting

Closed Session: 3:45-5:00 p.m.

• Approval of closed session minutes, August 2014

• Discussion on risks to NSF

• Awards and Agreements/CPP action item: the iPlant Collaborative—Cyberinfrastructure for the Life Sciences

• Closed committee reports

• Chairman's remarks

Thursday, November 20, 2014

Committee on Strategy and Budget (CSB)

Closed Session: 8:30-8:45.m.

• Approval of CSB closed minutes for August 2014

• NSF FY 2016 budget update

• Strategic reviews to inform 2017 budget development

Committee on Strategy and Budget (CSB)

Open Session: 8:45-9:00 a.m.

• Committee Chairman's remarks

• Approval of CSB open minutes for August 2014

• NSF FY 2015 NSB budget update

Committee on Science & Engineering Indicators (SEI)

Open Session: 9:00-10:30 a.m.

• Chairman's remarks, approval of the August 2014 meeting minutes and the September 2014 teleconference minutes

• Approval of Science and Engineering Indicators 2016 narrative outlines

• Discussion of the “field of degree” question on the American Community Survey

• Discussion of the Companion to Indicators 2014

• Discussion on demographic data in the 2014 version of the STEM education online resource

• Chairman's closing remarks

CPP

Open session: 10:45-11:45 a.m.

• Approval of open CPP minutes for August 2014

• Committee Chairman's remarks: CY 2015 tentative schedule of action and information items for NSB review; updates on Blue Waters and NSF strategic planning for high performance computing (HPC)

• NSB Information Item: MPS Advisory Committee, subcommittee on NSF response to strategic plan for particle physics outlined in the May 2014 Particle Physics Project Prioritization Panel (P5) report

• Discussion on research program development

Plenary

Executive Closed Session: 12:45-1:15 p.m.

• Approval of executive closed session minutes, May 2014

• Approval of Honorary Awards recommendations

• Chairman's remarks 2014

Plenary Board Meeting

Open Session: 1:15-3:00 p.m.

• Approval of open session minutes, August 2014

• Chairman's report

• Director's report

• Open committee reports

• Chairman's remarks

Meeting Adjourns: 3:00 p.m.

Ann Bushmiller,
Senior Counsel to the National Science Board.

[FR Doc. 2014-27123 Filed 11-12-14; 4:15 pm]

BILLING CODE 7555-01-P